DEPARTMENT OF COMMERCE

Bureau of Industry and Security

Information Systems; Technical Advisory Committee; Notice of Open Meeting

The Information Systems Technical Advisory Committee (ISTAC) will meet on January 25, 2017, 9:00 a.m., in the Herbert C. Hoover Building, Room 3884, 14th Street between Constitution and Pennsylvania Avenues NW., Washington, DC. The Committee advises the Office of the Assistant Secretary for Export Administration on technical questions that affect the level of export controls applicable to information systems equipment and technology.

Wednesday, January 25

Open Session

1. Welcome and Introductions

2. Working Group Reports

3. Old Business

4. Industry Presentations

5. New business

The open session will be accessible via teleconference to 20 participants on a first come, first serve basis. To join the conference, submit inquiries to Ms. Yvette Springer at Yvette.Springer@bis.doc.gov, no later than January 18, 2017.

A limited number of seats will be available for the public session. Reservations are not accepted. To the extent time permits, members of the public may present oral statements to the Committee. The public may submit written statements at any time before or after the meeting. However, to facilitate distribution of public presentation materials to Committee members, the Committee suggests that public presentation materials or comments be forwarded before the meeting to Ms. Springer.

For more information, call Yvette Springer at (202) 482-2813.

Dated: January 5, 2017.
Yvette Springer,
Committee Liaison Officer.

[FR Doc. 2017-00338 Filed 1-10-17; 8:45 am]

BILLING CODE 3510-JT-P